DEPARTMENT OF TRANSPORTATION

Pipeline and Hazardous Materials Safety Administration

[Docket No. PHMSA-2013-0261; Notice No. 13-21]

Research and Development; Public Meeting

AGENCY: Pipeline and Hazardous Materials Safety Administration (PHMSA), Department of Transportation.

ACTION: Notice of public meeting.

SUMMARY: This notice is to advise interested persons that PHMSA will conduct a public meeting for the Research and Development Forum to be held January 17, 2014, in Washington, DC. During this meeting, PHMSA will host the session to present the results of recently completed and current research projects. In addition, PHMSA will solicit comments relative to potential new research projects which may be considered for inclusion in its future work.

Information Regarding the Research and Development Public Meeting

DATES: Friday, January 17, 2014; 8:30 a.m.-5:00 p.m.

ADDRESSES: The meeting will be held at the DOT Headquarters, West Building, Oklahoma Conference Room, 1200 New Jersey Avenue SE., Washington, DC 20590.

Written Comments: PHMSA invites interested persons to submit any relevant data or information to the docket of this proceeding (PHMSA-2013-0261) by any of the following methods:

• Federal eRulemaking Portal: http://www.regulations.gov. Follow the instructions for submitting comments.

• Fax: 1-202-366-3650.

• Mail: Docket Management System; US Department of Transportation, West Building, Ground Floor, Room W12-140, Routing Symbol M-30, 1200 New Jersey Avenue, SE., Washington, DC 20590.

• Hand Delivery: To the Docket Management System; Room W12-140 on the ground floor of the West Building, 1200 New Jersey Avenue SE., Washington, DC 20590, between 9 a.m. and 5 p.m., Monday through Friday, except Federal holidays.

Instructions: All submissions must include the agency name and docket number for this notice at the beginning of the comment. To avoid duplication, please use only one of these four methods. All comments received will be posted without change to the Federal Docket Management System (FDMS), including any personal information.

Docket: For access to the dockets to read background documents or comments received, go to http://www.regulations.gov or DOT's Docket Operations Office (see ADDRESSES).

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) which may be viewed at http://www.gpo.gov/fdsys/pkg/FR-2000-04-11/pdf/00-8505.pdf.

Registration: It is requested that attendees pre-register for this meeting by emailing TaNika Dyson at tanika.dyson.ctr@dot.gov. Failure to pre-register may delay your access to the building. Participants attending in person are encouraged to arrive early to allow time for security checks necessary to obtain access to the building.

FOR FURTHER INFORMATION CONTACT: Lucy DiGhionno or Dr. Kin Wong, Office of Hazardous Materials Safety, Research and Development, Department of Transportation, Washington, DC 20590; (202) 366-4545.

SUPPLEMENTARY INFORMATION: The primary purpose of this meeting is to present the results of recently completed actions and to seek comments relative to potential new research projects which may be considered for inclusion in future work. PHMSA will consider comments received for proposed list of new projects identified in the draft agenda. The meeting agenda and event information may be obtained from PHMSA's Web site at http://phmhqnwas027vg.ad.dot.gov/about/calendar.

Topics on the agenda for the Research and Development Forum include:

• Modeling for Toxic Inhalation Hazard Zones

• Acute Exposure Guidelines and Emergency Response Guidebook Update

• Self-Contained Breathing Apparatus

• Cargo Tank Rollover Special Study

• Study on Improving Nurse Tank Safety

• R&D Initiatives on Packaging Testing

• Paperless Hazard Communications Pilot Program

• Odorization of LP Gas

• Safety Effectiveness of Pressure Relief Devices

• Explosives Testing

• Improving the Safety of Ammonium Nitrate Transport

Magdy El-Sibaie,
Associate Administrator.

[FR Doc. 2013-30707 Filed 12-24-13; 8:45 am]

BILLING CODE 4910-60-P